DEPARTMENT OF EDUCATION

National Board for Education Sciences; Notice of an Open Meeting

AGENCY: Department of Education, Institute of Education Sciences.

ACTION: Notice of an Open Meeting.

SUMMARY: This notice sets forth the schedule and proposed agenda of an upcoming open meeting of the National Board for Education Sciences. The notice also describes the functions of the committee. Notice of this meeting is required by Section 10(a)(2) of the Federal Advisory Committee Act and is intended to notify the public of their opportunity to attend.

DATES: October 30 and 31, 2007.

Times: October 30, 2 p.m. to 4:30 p.m.; October 31, 8:30 a.m. to 2 p.m.

ADDRESSES: Washington Court Hotel, 525 New Jersey Ave., NW., Washington, DC 20001, room to be announced.

FOR FURTHER INFORMATION CONTACT: Norma Garza, Executive Director, National Board for Education Sciences, 555 New Jersey Ave., NW., Room 627 H, Washington, DC 20208; phone: (202) 219-2195; fax: (202) 219-1466; e-mail: Norma.Garza@ed.gov.

Individuals who use a telecommunications device for the deaf (TDD) may call the Federal Information Relay Service (FRS) at 1-800-877-8339.

SUPPLEMENTARY INFORMATION: The National Board for Education Sciences is authorized by Section 116 of the Education Sciences Reform Act of 2002. The Board advises the Director of the Institute of Education Sciences (IES) on the establishment of activities to be supported by the Institute, on the funding for applications for grants, contracts, and cooperative agreements for research after the completion of peer review, and reviews and evaluates the work of the Institute.

On October 30, the Board will receive a briefing from the Director of IES and its staff on its activities and progress reports on projects under way since June 2007.

On October 31, the Board will discuss a current contract to evaluate the work of the Institute since its inception in 2002 and another that supports the work of the What Works Clearinghouse. Reports from the Legislation and Communications Committees will follow, and the meeting will conclude after a summary of views and discussion of next steps. The meeting will adjourn at 2 p.m.

A final agenda will be available from Norma Garza (see contact information above) on October 12. Individuals who will need accommodations for a disability in order to attend the meeting (e.g., interpreting devices, assistance listening devices, or materials in alternative format) should notify Norma Garza no later than October 19. We will attempt to meet requests for accommodations after this date but cannot guarantee their availability. The meeting site is accessible to individuals with disabilities.

Records are kept of all committee proceedings and are available for public inspection at 555 New Jersey Ave., NW., Room 627 H, Washington, DC 20208, from the hours of 9 a.m. to 5 p.m. Monday through Friday.

Electronic Access to This Document: You may view this document as well as all other documents of this Department published in the Federal Register in text or Adobe Portable Document Format (PDF) on the Internet at the following site: http://www.ed.gov/news/fed-register/index.html.

To use PDF you must have Adobe Acrobat Reader, which is available free at this site. If you have questions about using PDF, call the U.S. Government Printing Office (GPO) toll-free at 1-888-293-6498, or in the Washington, DC, area at (202) 512-1530.

Note: The official version of this document is the document published in the Federal Register. Free Internet access to the official edition of the Federal Register and the Code of Federal Regulations is available on GPO Access at: http://www.gpoaccess.gov/nara/index.html.

Grover J. Whitehurst,
Director, Institute of Education Sciences.

[FR Doc. E7-20010 Filed 10-10-07; 8:45 am]

BILLING CODE 4000-01-P